DEPARTMENT OF ENERGY

Federal Energy Regulatory Commission

[Project No. 2392-041]

Ampersand Gilman Hydro, LP; Notice of Reasonable Period of Time for Water Quality Certification Application

On March 14, 2025, the New Hampshire Department of Environmental Services (New Hampshire DES) submitted to the Federal Energy Regulatory Commission (Commission) notice that it received a request for a Clean Water Act section 401(a)(1) water quality certification as defined in 40 CFR 121.5, from Ampersand Gilman Hydro, LP, in conjunction with the above captioned project on January 24, 2025. Pursuant to section 4.34(b)(5) of the Commission's regulations,¹ we hereby notify New Hampshire DES of the following:

¹ 18 CFR 4.34(b)(5).

Date of Receipt of the Certification Request: January 24, 2025.

Reasonable Period of Time to Act on the Certification Request: One year, January 24, 2026.

If New Hampshire DES fails or refuses to act on the water quality certification request on or before the above date, then the certifying authority is deemed waived pursuant to section 401(a)(1) of the Clean Water Act, 33 U.S.C. 1341(a)(1).

Dated: May 12, 2025.
Debbie-Anne A. Reese,
Secretary.

[FR Doc. 2025-08834 Filed 5-16-25; 8:45 am]

BILLING CODE 6717-01-P